DEPARTMENT OF HEALTH AND HUMAN SERVICES

Administration for Children and Families

Proposed Information Collection Activity; Comment Request

Proposed Projects

Title: Objective Work Plan (OWP), Objective Progress Report (OPR) and Project Abstract.

OMB No.: 0980-0204.

Description: The information collected by OWP is needed to properly administer and monitor the Administration for Native Americans (ANA) programs within the Administration for Children and Families (ACF). OWP assists applicants in describing their project's objectives and activities, and also assists independent panel reviewer's, ANA staff and the ANA Commissioner during the review and funding decision process. The information in OPR is being collected on a quarterly basis to monitor the performance of grantees and better gauge grantee progress. The standardized format will allow ANA to report results across all its program areas and flag grantees that may need additional training and/or technical assistance to successfully implement their projects. The Project Abstract provides crucial information in a concise format that it utilized by applicants, independent reviewers, ANA staff and the ANA Commissioner.

Respondents: Tribal Govt., Native non-profits, Tribal Colleges & Universities.

Annual Burden Estimates
Instrument | Number of respondents | Number of responses per respondent | Average burden hours per response | Total burden hours
OWP | 500 | 1 | 3 | 1,500
OPR | 275 | 4 | 1 | 1,100
Project Abstract | 500 | 1 | .5 | 250

Estimated Total Annual Burden Hours: 2,850.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All request should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 6, 2006.
Robert Sargis,
Reports Clearance Officer.

[FR Doc. 06-5238 Filed 6-8-06; 8:45 am]

BILLING CODE 4184-01-M